DEPARTMENT OF TRANSPORTATION

Office of the Secretary

Applications of Platinum Airlines, Inc. for Certificate Authority

AGENCY: Department of Transportation.

ACTION: Notice of Order to Show Cause (Order 2005-10-13); Dockets OST-2005-21286 and OST-2005-21287.

SUMMARY: The Department of Transportation is directing all interested persons to show cause why it should not issue orders finding Platinum Airlines, Inc. fit, willing, and able, and awarding it certificates of public convenience and necessity to engage in interstate and foreign charter air transportation of persons, property and mail.

DATES: Persons wishing to file objections should do so no later than October 31, 2005.

ADDRESSES: Objections and answers to objections should be filed in Dockets OST-2005-21286 and OST-2005-21287 and addressed to U.S. Department of Transportation, Docket Operations, (M-30, Room PL-401), 400 Seventh Street, SW., Washington, DC 20590, and should be served upon the parties listed in Attachment A to the order.

FOR FURTHER INFORMATION CONTACT: Vanessa R. Balgobin, Air Carrier Fitness Division (X-56, Room 6401), U.S. Department of Transportation, 400 Seventh Street, SW., Washington, DC 20590, (202) 366-9721.

Dated: October 17, 2005.
Susan McDermott,
Deputy Assistant Secretary for Aviation and International Affairs.

[FR Doc. 05-21199 Filed 10-21-05; 8:45 am]

BILLING CODE 4910-62-P